FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201324.

Agreement Name: Seaboard/BBC Cooperative Working Agreement.

Parties: BBC Chartering Carriers GmbH & Co. KG; BBC Project Chartering GmbH Co KG; and Seaboard Marine Ltd.

Filing Party: Wayne Rohde; Cozen O'Connor.

Synopsis: The Agreement authorizes the parties to cooperate in a shared service string in the trade between the U.S. Gulf Coast on the one hand and ports in Panama, Colombia, Ecuador, Peru, and Chile on the other hand.

Proposed Effective Date: 11/12/2019.

Location: https://www2.fmc.gov/FMC.Agreements.Web/Public/AgreementHistory/24445.

Dated: November 15, 2019.
Rachel Dickon,
Secretary.

[FR Doc. 2019-25182 Filed 11-20-19; 8:45 am]

BILLING CODE 6731-AA-P